DEPARTMENT OF TRANSPORTATION

Federal Aviation Administration

14 CFR Part 71

[Docket No. FAA-2010-0808; Airspace Docket No. 10-AWP-14]

RIN 2120-AA66

Amendment of Class E Airspace; Kwajalein Island, Marshall Islands, RMI

AGENCY: Federal Aviation Administration (FAA), DOT.

ACTION: Final rule; correction.

SUMMARY: This action corrects a final rule; technical amendment published in the Federal Register. In that rule, errors were made in the airspace description. This action corrects those errors.

DATES: Effective date 0901 UTC, January 13, 2011. The Director of the Federal Register approves this incorporation by reference action under 1 CFR part 51, subject to the annual revision of FAA Order 7400.9 and publication of conforming amendments.

FOR FURTHER INFORMATION CONTACT: Ken McElroy, Airspace Regulation and ATC Procedures Group, Office of Mission Support Services, Federal Aviation Administration, 800 Independence Avenue, SW., Washington, DC 20591; telephone: (202) 267-8783.

SUPPLEMENTARY INFORMATION:

History

On October 7, 2010, a final rule; technical amendment was published in the Federal Register, FAA Docket No. FAA-2010-0808, Airspace Docket No. 10-AWP-14 that amended Title 14 Code of Federal Regulations part 71 by amending Class E airspace; Kwajalein Island, Marshall Islands, RMI (75 FR 61993). Specifically, the Kwajalein Tactical Air Navigation System reference was removed from the legal descriptions. However, the airspace descriptions contained several data points that were in error. This action corrects those errors. The correct full legal description is provided below.

Correction to Final Rule

Accordingly, pursuant to the authority delegated to me, the legal description for the Class E airspace area for Kwajalein Island, Marshall Islands, RMI, as published in the Federal Register on October 7, 2010, FR Doc. 2010-25220, (75 FR 61933) on page 61994, column 1, is corrected as follows:

§ 71.1 [Amended]

Paragraph 6004-Class E airspace areas designated as an extension to a class D or class E surface area

* * * * *

AWP RM E4 Kwajalein Island, Marshall Islands, RMI [Amended]

Kwajalein Island, Bucholz AAF, RMI

(Lat. 08°43′12″ N., long. 167°43′54″ E.)

Kwajalein RBN

(Lat. 08°43′15″ N., long. 167°43′40″ E.)

That airspace extending upward from the surface within 2.2 miles each side of the Bucholz AAF 249° bearing, extending from the 4.3-mile radius of Bucholz AAF to 5.2 miles west of the Bucholz AAF, and within 3 miles each side of the 077° bearing from the Kwajalein RBN, extending from the 4.3-mile radius to 9.6 miles east of the RBN. This Class E airspace area is effective during the specific dates and times established in advance by a Notice to Airmen. The effective date and time will thereafter be continuously published in the Pacific Chart Supplement.

* * * * *

Paragraph 6005 Class E airspace areas extending upward From 700 feet or more above the surface of the earth

* * * * *

AWP RM E5 Kwajalein Island, Marshall Islands, RMI [Amended]

Kwajalein Island, Bucholz AAF, RMI

(Lat. 08°43′12″ N., long. 167°43′54″ E.)

That airspace extending upward from 700 feet above the surface within a 12-mile radius of Bucholz AAF. That airspace extending upward from 1,200 feet above the surface within a 100-mile radius of Bucholz AAF.

Issued in Washington, DC, on January 12, 2011.
Edith V. Parish,
Manager, Airspace, Regulation and ATC Procedures Group.

[FR Doc. 2011-867 Filed 1-12-11; 11:15 am]

BILLING CODE 4910-13-P